DEPARTMENT OF JUSTICE

Drug Enforcement Administration

[Docket No. DEA-998]

Bulk Manufacturer of Controlled Substances Application: Stepan Company; Correction

AGENCY: Drug Enforcement Administration, Justice.

ACTION: Notice; correction.

SUMMARY: The Drug Enforcement Administration (DEA) published a document in the Federal Register on August 9, 2022, concerning an application for an Importer of Controlled Substances. The document contained an incorrect drug schedule for coca leaves.

SUPPLEMENTARY INFORMATION:

Correction

In the Federal Register on August 9, 2022, in FR Doc No: 2022-16984, on page 48510 (87 FR 48510), in the third column, correct the drug schedule for Coca Leaves to read schedule II as follows:

Controlled substance | Drug code | Schedule
Coca Leaves | 9040 | II

Matthew Strait,
Deputy Assistant Administrator.

[FR Doc. 2022-26928 Filed 12-14-22; 8:45 am]

BILLING CODE P